DEPARTMENT OF THE TREASURY

Internal Revenue Service

26 CFR Part 1

[REG-131997-02]

RIN 1545-BA85

Section 42 Carryover and Stacking Rule Amendments; Hearing

AGENCY: Internal Revenue Service (IRS), Treasury.

ACTION: Cancellation of notice of public hearing on proposed rulemaking.

SUMMARY: This document cancels the public hearing on proposed regulations relating to carryover and stacking rule amendments under section 42 of the Internal Revenue Code.

DATES: The public hearing originally scheduled for Tuesday, September 23, 2003, at 10 a.m., is cancelled.

FOR FURTHER INFORMATION CONTACT: Guy R. Traynor in the Publications and Regulations Branch, Associate Chief Counsel (Procedures & Administration), at (202) 622-3693 (not a toll-free number).

SUPPLEMENTARY INFORMATION: A notice of proposed rulemaking and notice of public hearing that appeared in the Federal Register on July 7, 2003 (68 FR 40218), announced that a public hearing was scheduled for September 23, 2003, at 10 a.m. in room 2615 of the Internal Revenue Building, 1111 Constitution Avenue NW., Washington, DC. The subject of the public hearing is proposed regulations under section 42 of the Internal Revenue Code. The deadline for submitting outlines and requests to speak at the hearing for these proposed regulations expired on September 5, 2003.

The notice of proposed rulemaking and notice of public hearing, instructed those interested in testifying at the public hearing to submit a request to speak and an outline of the topics to be addressed. As of September 9, 2003, no one has requested to speak. Therefore, the public hearing scheduled for September 23, 2003 is cancelled.

Cynthia E. Grigsby,
Acting Chief, Publications & Regulations Branch, Legal Processing Division, Associate Chief Counsel, (Procedures & Administration).

[FR Doc. 03-23469 Filed 9-12-03; 8:45 am]

BILLING CODE 4830-01-P